DEPARTMENT OF EDUCATION

Notice of Proposed Information Collection Requests

AGENCY: Department of Education (ED).

ACTION: Notice of proposed information collection requests.

SUMMARY: The Director, Information Collection Clearance Division, Privacy, Information and Records Management Services, Office of Management, invites comments on the proposed information collection requests as required by the Paperwork Reduction Act of 1995.

DATES: An emergency review has been requested in accordance with the Act (44 U.S.C. Chapter 3507 (j)), since public harm is reasonably likely to result if normal clearance procedures are followed. Approval by the Office of Management and Budget (OMB) has been requested by May 5, 2011. A regular clearance process is also beginning. Interested persons are invited to submit comments on or before June 28, 2011.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov.

SUPPLEMENTARY INFORMATION: Section 3506 of the Paperwork Reduction Act of 1995 (44 U.S.C. Chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The Director, Information Collection Clearance Division, Privacy, Information and Records Management Services, Office of Management, publishes this notice containing proposed information collection requests at the beginning of the Departmental review of the information collection. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. ED invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on respondents, including through the use of information technology.

Dated: April 26, 2011.
Darrin A. King,
Director, Information Collection Clearance Division, Privacy, Information and Records Management Services, Office of Management.

Office of Innovation and Improvement

Type of Review: Reinstatement.

Title: DC School Choice Incentive Program.

OMB #: 1855-0015.

Abstract: The DC School Choice Incentive Program, authorized by the Consolidated Appropriations Act of 2004, awarded a grant to the DC Children and Youth Investment Trust Corporation that will administer scholarships to students who reside in the District of Columbia and come from households whose incomes do not exceed 185% of the poverty line. Priority is given to students who are currently attending schools in need of improvement, as defined by Title I. To assist in the student selection and assignment process, the information to be collected will be used to determine the eligibility of those students who are interested in the available scholarships. Also, since the authorizing statute requires an evaluation we are proposing to collect certain family demographic information because they are important predictors of school success. Finally, we are asking to collect information about parental participation and satisfaction because these are key topics that the statute requires the evaluation to address.

Additional Information: This is a request for emergency clearance to collect basic, time critical information about scholarship applicants for the DC School Choice Incentive Program, and preliminary information for the evaluation. The Program was recently reauthorized on April 15, 2011 through “District of Columbia, Federal Funds, Federal Payment for School Improvement”. Speaker Boehner introduced the Scholarships for Opportunity and Results Act which reauthorized the DC School Choice Incentive Program for another five years beginning in FY 2011. Pursuant to 5 CFR 1320.13, the Department requests that OMB review the DC School Choice Incentive data collection tool under its emergency procedures. The request for an emergency clearance is twofold: (1) Public harm is likely to result as more than 1,150 students on the current waiting list must be selected and approved to receive funding by the end of June, a process that requires approximately eight weeks to complete; and (2) receiving funding was an unanticipated event as funding for this program was previously discontinued.

The purpose of the DC School Choice Incentive Program (Program) is to provide low-income parents residing in the District of Columbia with expanded options for the education of their children. The statute for this Program requires scholarships to be awarded to students who reside in the District of Columbia and come from households whose incomes do not exceed 185% of the poverty line. Priority is given to students who are currently attending Title I schools in need of improvement, corrective action or restructuring as defined by Title I. To assist in the student selection and assignment process, the information to be collected as requested under this emergency clearance will be used to determine the eligibility of those students who are interested in the available scholarships. Also, the authorizing statute requires the mandated evaluation to address changes in parents' school involvement and satisfaction and so initial levels of those factors need to be assessed at the time of application.

Failure to collect this information in a timely manner will hinder the grantee's ability to:

(1) Administer scholarships (approximately $15 million) for this fiscal year as required by the statute;

(2) Perform outreach into low income communities to make them aware that new scholarships are available;

(3) Collect and process scholarship applications to determine eligibility;

(4) Administer the student lottery;

(5) Sign-up schools to participate in the program and verify they meet legislatively mandated requirements;

(6) Identify the number of slots by grade available in participating schools;

(7) Collect and disseminate information on participating schools to facilitate parents' school search process;

(8) Facilitate parents' application process to schools and enroll their child(ren);

(9) Place students in school through a student/school match process;

(10) Update scholarship invoicing and payments system to accommodate new legislatively identified scholarship caps and published tuition and fees;

(11) Effectively manage the distribution of scholarships to low-income parents of students; and,

(12) Meet certain evaluation and reporting requirements, as required by the statute.

Frequency: Annually.

Affected Public: Individuals or households.

Reporting and Recordkeeping Hour Burden: Responses: 3,000. Burden Hours: 1,000.

Copies of the proposed information collection request may be accessed from http://edicsweb.ed.gov, by selecting the “Browse Pending Collections” link and by clicking on link number 4583. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements should be electronically mailed to ICDocketMgr@ed.gov 202-260-8916. Individuals who use a telecommunications device for the deaf (TDD) may call the Federal Information Relay Service (FIRS) at 1-800-877-8339.

[FR Doc. 2011-10505 Filed 4-28-11; 8:45 am]

BILLING CODE 4000-01-P